DEPARTMENT OF HEALTH AND HUMAN SERVICES

Administration for Children and Families

Submission for Office of Management and Budget (OMB) Review; Monitoring and Compliance for ORR Care Provider Facilities (OMB #: 0970-0564)

AGENCY: Office of Refugee Resettlement, Administration for Children and Families, U.S. Department of Health and Human Services.

ACTION: Request for public comments.

SUMMARY: The Office of Refugee Resettlement (ORR), Administration for Children and Families (ACF), U.S. Department of Health and Human Services (HHS), is inviting public comments on the proposed collection. The request consists of several forms that allow the ORR Unaccompanied Children (UC) Program to enhance monitoring efforts at care provider facilities that are not licensed by the State, as well as continue standard monitoring activities that ensure its care provider facilities are in compliance with Federal and State laws and regulations, licensing and accreditation standards, ORR policies and procedures, and child welfare standards. This notice is specific to forms that were recently approved through emergency approval for 180 days and additional proposed forms.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description

Current Proposed Revisions

Quarterly Unlicensed Facility Site Visits

• Unlicensed Facility Unaccompanied Child Case File Checklist (Form M-8A-UF)

○ Admission Documents

Inventory of Property and Cash: Corrected timeframe to align with policy. The inventory log should be completed “within 2 hours of admission” not 24 hours.

Clothing and Supplies: Added language to clarify what is covered under this item.

○ Orientation Documents—Added new item checking for compliance with ORR's access to reproductive health care policy (also known as the Garza policy).

○ Legal Information

Acknowledgement of Receiving Legal Resource Guide: Changed “within 24 hours” to “within 24 hours of admission” to clarify the policy requirement.

EOIR Docs: Corrected name Executive Office for Immigration Review (“Review” was missing)

○ Medical Documents

Authorization for Medical, Dental, and Mental Health Care: Changed “within 24 hours” to “within 24 hours of admission” to clarify the policy requirement.

Documentation of Initial Medical Exam: Added “within 48 hours of admission” to clarify policy requirement. Updated form expiration dates referenced. Added reminder that completion of the exam form is mandatory.

Dental Exam Form: Updated form expiration dates referenced. Added reminder that completion of the form is mandatory.

Supplemental TB Screening Form: Updated form expiration dates referenced. Added reminder that completion of the form is mandatory.

Prescriptions: Changed “log” to “record/log” for clarity.

Split Medical and Mental Health Records into two separate line items and added language to clarify the policy requirements.

○ Assessments

Unaccompanied Child Case Review: In first bullet point, clarified that it's the initial case review that is continuously updated until 30 calendar days after admission. In second bullet point, changed “Every 30 calendars days . . .” to “Subsequently every 30 calendar days . . .” for clarity.

Sponsor Assessment: Updated form expiration dates referenced. Changed “Within 5 days” to “Must be initiated within 5 days” for clarity.

Individual Service Plan: Changed “Within 5 days” to “Initial must be done within 5 days” for clarity.

○ Case Management—Recreation/Leisure: Changed “log” to “plan/log” for clarity. Removed “Effective 3/20/20—avoid community outing due to COVID-19” since this is no longer applicable.

○ Clinical Services—Added “Disclosure Notice” to reflect new policy requirement.

○ Discharge

Removed “CDC Covid-19 Fact Sheet and Symptoms Sheet (Effective: 3/13/20)”—the revised sponsor letter has replaced that fact sheet.

Added “Post-18 Plan (if applicable)” to align with policy and procedures.

Family Reunification Packet: Updated form expiration dates referenced.

○ Post-Discharge—Health Follow-Up Call: Updated effective dates for related guidance and added language clarify requirements.

• Unlicensed Facility Staff Secure Addendum to Case File Checklist (Form M-8D-UF)—Made minor edits for more precise language and changed formatting to bullet point lists for several items.

• Unlicensed Facility Personnel File Checklist (Form M-10A-UF)

○ Removed Training Directive per ORR Management section because it is no longer a requirement. This requirement was related to a specific webinar series on the topic of trauma-informed care. It was removed because it is duplicative of the requirements in the cooperative agreement that require training on strength-based behavior management and trauma-informed care approaches.

○ Annual Trainings—Removed “Hover for additional comments” and corresponding comment that read “How does the employee confirm comprehension of a training? i.e., quiz/test score or signature confirming comprehension” because respondents reported the comments were unhelpful.

○ Trainings Every Two Years per Cooperative Agreement—

Medication Management: Added “must also receive medication administration training”

Removed “Hover for additional comments” and corresponding comment that read “How does the employee confirm comprehension of a training? i.e., quiz/test score or signature confirming comprehension” because respondents reported the comments were unhelpful.

Rephrased “Strength-based behavior management . . .” to “Strength-based behavior management and trauma-informed care approaches” to reflect current cooperative agreement requirements.

Reinstated the following forms as the number of respondents has increased to more than nine respondents.

• Unlicensed Facility LTFC Monitoring Notes (Form M-6C-UF)

• Unlicensed Facility LTFC UC Case File Checklist (Form M-8B-UF)

• Unlicensed Facility Staff Secure Addendum to Case File Checklist (Form M-8D-UF)

• Unlicensed Facility Foster Home Onsite Monitoring Checklist (M-9B-UF)

Quarterly Influx Care Facility Site Visits

Added the below-listed alternate version of a form that was previously approved by OMB but was removed from the information collection due to the number of respondents. Differences between the previously approve version and the alternate version are noted below.

• Influx Care Facility (ICF) Monitoring Notes (Form M-6E)

○ Instructs monitors to review the facility's contract and statement of work (as opposed to the grant application and cooperative agreement) to reflect the funding method used for ICFs.

○ Removes the following sections that are specific to grants.

Fiscal year budget

Key positions approved by the Project Officer

○ Instructs monitors to review Serious Incident Reports (SIRs) from the past three months (as opposed to six months for shelters). This revision does not represent a reduction in SIR review, rather it reflects the ongoing SIR review process that occurs for ICFs. Monitors are performing site visits within the first three months of an ICR opening, which means that there would only be three months' worth of SIRs available during the initial site visit. Thereafter, three months will cover review of all SIRs since the last site visit. For example, if an ICF opened at the start of January, the initial site visit would occur by the end of March and SIRs generated from January through March would be reviewed. The next site visit would then occur at the end of June and during that visit SIRs generated April through June would be review. There would be no need to review six months' worth of SIRs at that time because the SIRs generated January through March would have already been reviewed. This pattern of quarterly reviews would continue while the ICF is operational.

○ Reworded questions under the staffing plan section to be more specific to contracts.

○ Added instruction for monitors to ensure that the facility is following their supervision plan (as reported in the ICF Site Visit Guide) for any staff whose relevant background checks are still pending. All staff must pass a public records criminal background check before hire. Staff with direct access to children must also pass an FBI fingerprint check and child abuse and neglect check (CA/N). However, staff may be hired provisionally before FBI or CA/N check results are received if at all times prior to receipt of results the staff member is within the sight and under the supervision of a staff member whose background checks are complete.

○ Removed questions on State licensing.

○ Removed section on mosquito control inspections. These inspections were originally established to address concerns with the Zika virus and are no longer performed.

Added the below-listed alternate versions of forms already approved under this information collection. Differences between the already approved versions and the alternate versions are as noted below.

• ICF Monitoring Site Visit Guide (Form M-7G)—Revisions were made to develop a more in-depth guide to reflect the size and complexity of influx sites. ORR plans to pilot this revised guide at ICFs and later decide on whether some or all of these revisions should be made to site visit guides for other levels of care. ORR will seek OMB approval for any future revision to other versions of the site visit guide.

○ Reorganized and grouped questions under different sections, as well as rewording questions and instructions for clarity.

○ Added text boxes and tables to make clear where the ICF should enter information.

○ Added areas for the ICF to provide a brief overview of their site operations and list of subcontractors and their respective scopes of work.

○ Expanded the list of facility points of contact requested.

○ Added areas for the ICF to share any innovative and/or best practices implemented at the site and for the ICF to describe know deficiencies and/or areas for improvement.

○ Added a table in the stakeholders section to prompt the ICF to provide more detail information about the frequency and type of collaboration as well as areas in need of improvement.

○ Expanded section on personnel to include questions about personnel evaluation practices, whistleblower policies, and significant staffing changes, vacancies, deficiencies, and/or barriers to personnel capacity.

○ In addition to providing copies of internal procedures, ICFs are asked to document information about the personnel responsible for internal reviews, protocols for responding to noncompliance, and how the ICF protects child privacy and confidentiality.

○ Expands the question asking for the program's video monitoring policies and procedures to include all perimeter and internal security mechanisms.

○ In addition to providing copies of emergency and evacuation plans, programs are asked to describe related procedures and provide information on emergency drills and after-action reviews.

○ Added area for programs to describe their safety inspection practices and related drills, as well as an area to note concerns/deficiencies related to safety and security.

○ Added questions on the program's procedures for staffing cases, case status updates, and how case managers coordinate with other discipline (e.g., clinical).

○ Split the question asking for the programs discharge procedures into several questions that prompt the program to specifically provide information about their procedures for transfers, age redetermination cases, and managing age outs.

○ Added question that requests the program's procedures on facilitating visits among children in care.

○ Added question asking the program to note any complex or especially vulnerable cases that required specialized service coordination.

○ Added question asking the program to note any concerns/deficiencies related to case management.

○ Added new section on child supervision that asks for program's procedures on supervision plans and direct care staffing ratios, determining room/bed assignments, accurately monitoring the location of the child, and behavior management.

○ Expanded the section that asks for a description of ancillary services to include recreational/leisure, religious, languages access, and phone call, visitation, and mail services (in addition to education and transportation).

○ In addition to requesting copies of nutritional services procedures, adds a section for programs to describe these services. This includes food storage and safety protocols, how child dietary needs are meet, how cultural and religious preferences are meet, and any concerns/deficiencies.

○ Expands the medical services section to add questions asking the program to describe their medical intakes procedures, onsite medical services, medication administration protocols, medical records system, the process for referring a child for offsite medical services, and vaccination procurement and administration protocols.

○ Expands the mental health services section to add questions asking the program to describe their mental health intake procedures and onsite mental health services.

○ In addition to requesting copies of prevention of sexual abuse procedures and related materials, asks the program to describe several specific aspects of their procedures.

○ Breaks the general question asking the program to describe their SIR procedures into several more specific questions on who the responsible parties are for submitting reports, follow-up/addendums, and notification/coordination with external entities.

○ Adds a new question asking the program how long it took to complete the form.

○ Updates the type of background check documentation requested to align with background check requirements specific to influx care facilities.

• ICF Personnel File Checklist (Form M-10E)

○ Pre-Service Trainings—Removed “State licensed required trainings” because ICF are not State-licensed.

○ Removed Training Directive per ORR Management section because it is no longer a requirement. This requirement was related to a specific webinar series on the topic of trauma-informed care. It was removed because it is duplicative of a new item added to the annual trainings section that monitors for training on strength-based behavior management and trauma-informed care approaches.

○ Annual Trainings—Added “Strengths-based behavior management approaches and trauma-informed care approaches, such as using conflict resolution, problem solving skills, using rewards and consequences, de-escalation techniques and helping children and youth learn accountability and self-control.”

○ Removed Trainings Every Two Years per Cooperative Agreement section because ICFs are funded through contracts and not grants.

Prevention of Sexual Abuse (PSA) Audits

ORR is seeking approval to add eight new instruments that will allow ORR to audit its care provider programs for compliance with the IFR on Standards to Prevent, Detect, and Respond to Sexual Abuse and Sexual Harassment Involving Unaccompanied Children (45 CFR Subpart L). These instruments are currently in use without OMB approval; this request will allow ORR to comply with the Paperwork Reduction Act requirements. The proposed new instruments are:

• Preaudit Questionnaire and Audit Documentation Requested Checklist (Form M-17A)

• Instructions for Site Visit and Facility Tour (Form M-17B)

• Interview Guide: Random Sample of Staff Interview (Form M-17C)

• Interview Guide: Program Director (Form M-17D)

• Interview Guide: Prevention of Sexual Abuse (PSA) Compliance Manager (Form M-17E)

• Interview Guide: Specialized Staff (Form M-17F)

• Interview Guide: Unaccompanied Child (Form M-17G)

• PSA Audit Corrective Action Report (Form M-17H)

Revisions to Existing Forms

The below noted revisions were made to existing forms in this collection to better align with ORR policies and procedures and strengthen monitoring protocols.

• FFS Compliance and Safety Site Visit Report (Form M-3A)

○ Converted the original Excel version into a web-based format.

○ Removed the following items that are best practices but not explicitly required in ORR policy/procedures:

Client's rights are posted in language unaccompanied child understands

Daily schedule is posted in language unaccompanied child understands

○ Added the following fields

ORR Region

Please note the number of children in the group being interviewed

Please note the estimate age range of the group of children you interviewed

○ Renamed field “FFS Name” to “ORR Representative Name”

○ Consolidated separate questions regarding compliance with staffing ratios into two questions (“Is the program compliant with all ORR staffing ratios?” and “Are there staffing concerns?”) and added field “If Yes, please confirm you elevated this to the Project Officer for resolution or to address UC capacity.”

• PSA Unaccompanied Child Incident Review (Form M-5A)—Corrected typo in the When did the incident occur? field dropdown options, changing “pm” to “am.”

• PSA Adult Incident Review (Form M-5B)—Corrected typo in the When did the incident occur? field dropdown options, changing “pm” to “am.”

• Site Visit Guide (Form M-7A)

○ Under Child Protection—Added requirement for program to provide link to mandatory reporting laws/rules and specify who is classified as a mandatory reported in the State in which the program is located.

○ Under Background Checks—Clarified that information on foster parents is also required.

○ Removed reference to mosquito control inspections. These inspections were originally established to address concerns with the Zika virus and are no longer performed.

○ Added Personnel and Volunteer List as a supplemental tool to use with this instrument. This list directly corresponds to the information requested in the Background Checks section of the guide.

• Foster Care Site Visit Guide (Form M-7C)

○ Retitled form “Foster Care Site Visit Guide.” The former title was “Long Term Foster Care Site Visit Guide.”

○ Under Program Management—Added requirement to describe internal policies and procedures related to referral and placement.

○ Under Child Protection—Rephrased question 3 from “Describe the State's licensing child maltreatment reporting requirements. (Provide state link to licensing requirements for reporting requirements.)” to “Describe the State's child maltreatment reporting requirements. (Provide a link to the state's mandatory reporting laws/rules. Also, include who classifies as a mandatory reporter in your state.)”

○ Under Facility, Foster Homes, and Food Services

Retitled “Facility, Foster Homes, and Food Services section to “Foster Homes.”

Moved the two questions unrelated to foster homes into their own section titled “Facility and Food Services” and added additional instructions to clarify what programs are expected to include in their description of the facility space.

○ Under Case Management—Clarified what programs must provide related to their procedures on post-18 planning.

○ Under Background Checks—Reordered and rephrased some of the questions.

○ Under Health Services—Added examples of communicable diseases.

○ Under Problems Encountered—Removed requirement to provide list of commonly used partnerships and services.

○ In the list of requested materials

Added educational curriculum and weekly class schedule

Reformatted the item requesting various policies and procedures into a bullet point list

○ Added a note clarifying that ORR will request foster parent documentation for foster homes that are visited during the site visit.

• Personnel File Checklist (Form M-10A)

○ Removed Training Directive per ORR Management section because it is no longer a requirement. This requirement was related to a specific webinar series on the topic of trauma-informed care. It was removed because it is duplicative of the requirements in the cooperative agreement that require training on strength-based behavior management and trauma-informed care approaches.

○ Annual Trainings—Removed “Hover for additional comments” and corresponding comment that read “How does the employee confirm comprehension of a training? i.e. quiz/test score or signature confirming comprehension” because respondents reported the comments were unhelpful.

○ Trainings Every Two Years per Cooperative Agreement—

Medication Management: Added “must also receive medication administration training”

Removed “Hover for additional comments” and corresponding comment that read “How does the employee confirm comprehension of a training? i.e. quiz/test score or signature confirming comprehension” because respondents reported the comments were unhelpful.

Rephrased “Strength-based behavior management . . .” to “Strength-based behavior management and trauma-informed care approaches” to reflect current cooperative agreement requirements.

• Foster Parent Checklist (Form M-10D)

○ Under General Documentation—Added requirement for monitors to check for completed foster home study assessments/inspections.

○ General Documentation

Foster Home License: Added “(Effective: 2022; please reference the program-specific Cooperative Agreement)” to clarify requirements in the current cooperative agreement.

Added new item “Completed Foster Home Study Assessments/Inspections (Effective: 2022; please reference the program-specific Cooperative Agreement)” to align with requirements in the current cooperative agreement.

Added new item “Foster Parent Agreement (signed; Effective: 2022; please reference the program-specific Cooperative Agreement)” to align with requirements in the current cooperative agreement.

○ Pre-Service Trainings—ORR Standards to Prevent, Detect, and Respond to SA and SH involving unaccompanied children: Removed “New employees must complete training before hire.” to align with current guidance that allows hire (but no interaction with children) before training.

• Foster Parent Questionnaire (Form M-11O)

○ Added instructions on the first page.

○ Reordered some questions.

○ Clarified that when asking the foster parent what information they received on the child, that ORR is asking about information on the child's individual services needs and provided examples (education, health, dietary, religious, etc.).

○ Added example of independent living to question asking what types of activities the child participates in.

• Unaccompanied Child Questionnaire—Ages 6-12 Years Old (Form M-12As)—Updated Spanish translation to match currently-approved English version.

• Unaccompanied Child Questionnaire—Ages 13 and Older (Form M-12Bs)—Updated Spanish translation to match currently-approved English version.

ORR is requesting that the following instruments be removed from this information collection:

• Remote Monitoring Site Visit Guide (Form M-7B)—Remove from information collection. This instrument was created for use during the height of the COVID-19 pandemic. Monitors have resumed in-person site visits and the instrument is no longer needed.

• Long Term Foster Care Remote Site Visit Guide (Form M-7D)—Remove from information collection. This instrument was created for use during the height of the COVID-19 pandemic. Monitors have resumed in-person site visits and the instrument is no longer needed.

Voluntary Agency Site Visit Guide (Form M-7F)—Remove from information collection. This instrument is completed by less than 10 respondents and therefore not subject to PRA.

Revisions Approved Under Emergency Approval

Added Interpreter Questionnaire (Form M-11P), which is currently approved under OMB #0970-0558, to this information collection.

Quarterly Unlicensed Facility Site Visits

Added the following forms that were previously approved by OMB but were removed from the information collection due to the number of respondents. Differences between the previously approved versions and the current versions that will be used by contractor monitors are as noted below.

• Monitoring Notes (Form M-6A-UF)

○ Directions added to top of form.

• UC Case File Checklist (Form M-8A-UF)

○ Added a Read Me tab with directions.

○ Added a summary tab that auto-sums data from other tabs.

○ Revised the formatting of the UC Services tab.

• On Site Monitoring Checklist (M-9A-UF)

○ Removed section on mosquito control. These inspections were originally established to address concerns with the Zika virus and are no longer performed.

○ Under Documents that Should be Posted—Removed reference to two discontinued items.

○ Under Other—Removed reference to mosquito repellant.

○ Under Logs/Schedules—Removed reference to the discontinued UC Temperature Tracker.

Added the below-listed alternate versions of forms already approved under this information collection. Differences between the already approved versions and the alternate versions are as noted below. Unlicensed programs will continue to receive comprehensive biennial monitoring visits pursuant to UC Policy Guide section 5.5.1 during which the full original versions of these forms will be used. Quarterly monitoring visits will mainly focus on health and safety. To align with that purpose and help streamline forms that will be administered more often than their full version counterparts, adjustments made to the alternate versions removed some items related to program management. Other adjustments were made for clarity or to align with current ORR policy and procedures. Quarterly monitoring visits will continue to monitor the same areas related to child welfare practices and provision of services as biennial monitoring visits.

• Site Visit Guide (Form M-7A-UF)

○ Under Child Protection—Added requirement for program to provide link to mandatory reporting laws/rules and specify who is classified as a mandatory reported in the State in which the program is located.

○ Under Background Checks—Clarified that information on foster parents is also required.

○ Removed reference to mosquito control inspections. These inspections were originally established to address concerns with the Zika virus and are no longer performed.

• Personnel File Checklist (Form M-10A-UF)

○ Under General Documentation—Removed job description; employment application; personal and professional references; educational records; professional licensure; and I-9 documents.

• Program Director Questionnaire (Form M-11A-UF)

○ Removed question on what changes the program director envisions for the program in the next year.

○ Modified the question on how the program incorporates input from others to assess the program to only ask about how input from minors and staff is used. Previously, the question asked how input from minors, staff, program partners, legal services providers, and sponsor is used.

• Clinician Questionnaire (Form M-11C-UF)

○ Removed question on what system the clinician uses to document clinical sessions.

○ Removed question asking clinician to describe their relationship with their supervisor.

• Case Manager Questionnaire (Form M-11E-UF)

○ Removed question asking case manager to describe their relationship with their supervisor.

• Education Staff Questionnaire (Form M-11G-UF)

○ No modifications made.

• Medical Coordinator Questionnaire (Form M-11I-UF)

○ Removed question asking medical coordinator to describe their relationship with their supervisor.

• Youth Care Worker Questionnaire (Form M-11J-UF)

○ Removed question on access to UC Portal.

○ Removed question on how often staff meetings are held.

○ Removed question asking youth care worker to describe their relationship with their supervisor.

• Prevention of Sexual Abuse Compliance Manager Staff Questionnaire (Form M-11K-UF)

○ No modifications made.

• Interpreter Questionnaire (Form M-11P-UF)

○ No modifications made.

• UC Questionnaire—Ages 6-12 Years Old (Forms M-12A-UF and M-12As-UF)

○ Under Communication with Family—Added question on how often and how long the child speaks with their family.

○ Removed placeholder sections on meetings with case management and clinical staff, which are not asked of children ages 6-12.

• UC Questionnaire—Ages 13 and Older (Forms M-12B-UF and M-12Bs-UF)

○ Under Admission/Orientation—Removed question asking what the child remembers about documents signed/received during the first couple days.

○ Under Communication with Family—Added question on how often and how long the child speaks with their family. Removed question on sending/receiving mail and email.

• UC Questionnaire—Ages 5 and Under (Form M-12E-UF and M-12Es-UF)

○ No modifications made.

• Legal Service Provider Questionnaire (Form M-13C-UF)

○ Reworded questions on ability to perform Know Your Rights and legal screenings.

○ Removed question on with which program staff members legal service providers regularly interact.

○ Removed questions method used to inform legal service providers of incidents affecting the child's legal case.

• Case Coordinator Questionnaire (Form M-13E-UF)

○ No modifications made.

For information about all currently approved forms under this OMB number, see: https://www.reginfo.gov/public/do/PRAViewICR?ref_nbr=202108-0970-016.

Respondents: ORR grantee and contractor staff; foster parents; and UC.

Annual Burden Estimates:

Note: These burden estimates include burden related to the revisions described above and currently approved forms for which we are not proposing any changes.

Estimated Burden Hours for Respondents
Information collection title | Annual number of respondents | Annual number of responses per respondent | Average burden hours per response | Annual total burden hours
Corrective Action Report (Form M-1) | 262 | 0.4 | 5.00 | 524.00
FFS Compliance and Safety Site Visit Report (Form M-3A) | 262 | 12.0 | 1.00 | 3,144.00
Out-of-Network Site Visit Report (Form M-3B) | 24 | 5.0 | 1.00 | 120.00
Checklist for a Child-Friendly Environment (Form M-4) | 262 | 12.0 | 0.25 | 786.00
Incident Reviews (Forms M-5A to M-5B) | 262 | 0.3 | 1.50 | 117.90
Site Visit Guide (Forms M-7A) | 114 | 1.0 | 13.00 | 1,482.00
LTFC Site Visit Guide (Forms M-7C) | 18 | 1.0 | 6.00 | 108.00
Home Study and Post-Release Services Site Visit Guide (Form M-7E) | 30 | 1.0 | 6.00 | 180.00
ICF Monitoring Site Visit Guide (Form M-7G) | 3 | 1 | 15.00 | 45.00
Unlicensed Facility Site Visit Guide (Form M-7A-UF) | 56 | 4.0 | 1.00 | 224.00
Unlicensed Facility UC Case File Checklist (Form M-8A-UF) | 56 | 20.0 | 1.00 | 1,120.00
Unlicensed Facility LTFC UC Case File Checklist (Form M-8B-UF) | 1 | 20 | 1.00 | 20.00
Unlicensed Facility Staff Secure Addendum Case File Checklist (Form M-8B-UF) | 2 | 20 | 1.00 | 40.00
Program Staff Questionnaires (Forms M-11A to M-11K) | 917 | 1.0 | 1.00 | 917.00
Secure Detention Officer Questionnaire (Form M-11L) | 1 | 1.0 | 1.00 | 1.00
Long Term Foster Care Home Finder Questionnaire (Form M-11M) | 18 | 1.0 | 1.00 | 18.00
Long Term Foster Care Independent Living Life Skills Staff Questionnaire (Form M-11N) | 18 | 1.0 | 1.00 | 18.00
Long Term Foster Care Foster Parent Questionnaire (Form M-11O) | 35 | 1.0 | 0.75 | 26.25
Interpreter Questionnaire (Form M-11P) | 115 | 2.0 | 0.50 | 115.00
Unlicensed Facility Program Staff Questionnaires (Forms M-11A-UF to M-11K-UF) | 56 | 32.0 | 1.00 | 1,792.00
Unlicensed Facility Interpreter Questionnaire (Form M-11P-UF) | 56 | 4.0 | 0.50 | 112.00
UC Questionnaires (Forms M-12A to M-12B & M-12E) | 563 | 1.0 | 0.50 | 281.50
Long Term Foster Care Client Questionnaire (Form M-12C) | 88 | 1.0 | 0.50 | 44.00
Secure Client Questionnaire (Form M-12D) | 5 | 1.0 | 0.50 | 2.50
Unlicensed Facility UC Questionnaires (Forms M-12A-UF to M-12B-UF & M-12E-UF) | 1,120 | 1.0 | 0.50 | 560.00
Home Study and Post-Release Services Director Questionnaire (Form M-13A) | 30 | 1.0 | 1.00 | 30.00
Home Study and Post-Release Services Caseworker Questionnaire (Form M-13B) | 90 | 1.0 | 1.00 | 90.00
Legal Service Provider Questionnaire (Form M-13C) | 114 | 1.0 | 1.00 | 114.00
Long Term Foster Care Legal Service Provider Questionnaire (Form M-13D) | 18 | 1.0 | 0.75 | 13.50
Case Coordinator Questionnaire (Form M-13E) | 131 | 1.0 | 1.00 | 131.00
Unlicensed Facility Legal Service Provider Questionnaire (Form M-13C-UF) | 224 | 1.0 | 0.75 | 168.00
Unlicensed Facility Case Coordinator Questionnaire (Form M-13E-UF) | 224 | 1.0 | 1.00 | 224.00
Preaudit Questionnaire and Audit Documentation Requested Checklist (Form M-17A) | 78 | 1.0 | 4.00 | 312.00
Instructions for Site Visit and Facility Tour (Form M-17B) | 78 | 1.0 | 2.00 | 156.00
Interview Guide: Random Sample of Staff Interview (Form M-17C) | 312 | 1.0 | 1.00 | 312.00
Interview Guide: Program Director (Form M-17D) | 78 | 1.0 | 1.00 | 78.00
Interview Guide: PSA Compliance Manager (Form M-17E) | 78 | 1.0 | 1.00 | 78.00
Interview Guide: Specialized Staff (Form M-17F) | 156 | 1.0 | 1.00 | 156.00
Interview Guide: Unaccompanied Child (Form M-17G) | 780 | 1.0 | 0.50 | 390.00
PSA Audit Corrective Action Report (Form M-17H) | 78 | 1.0 | 1.00 | 78.00
Estimated Annual Burden Hours Total |  |  |  | 14,184.65

Estimated Burden Hours for Contractor Interim Final Rule Auditors
Information collection title | Annual number of respondents | Annual number of responses per respondent | Average burden hours per response | Annual total burden hours
Preaudit Questionnaire and Audit Documentation Requested Checklist (Form M-17A) | 8 | 48.0 | 3.00 | 1,152.00
Instructions for Site Visit and Facility Tour (Form M-17B) | 8 | 48.0 | 1.00 | 384.00
Interview Guide: Random Sample of Staff Interview (Form M-17C) | 8 | 48.0 | 1.00 | 384.00
Interview Guide: Program Director (Form M-17D) | 8 | 48.0 | 1.00 | 384.00
Interview Guide: PSA Compliance Manager (Form M-17E) | 8 | 48.0 | 1.00 | 384.00
Interview Guide: Specialized Staff (Form M-17F) | 8 | 48.0 | 1.00 | 384.00
Interview Guide: Unaccompanied Child (Form M-17G) | 8 | 48.0 | 0.50 | 192.00
PSA Audit Corrective Action Report (Form M-17H) | 8 | 48.0 | 2.00 | 768.00
Estimated Annual Burden Hours Total |  |  |  | 4,032.00

Estimated Burden Hours for Contractor Monitors—Unlicensed Facilities
Information collection title | Annual number of respondents | Annual number of responses per respondent | Average burden hours per response | Annual total burden hours
Unlicensed Facility Monitoring Notes (Form M-6A-UF) | 18 | 12.0 | 12.00 | 2,592.00
Unlicensed Facility LTFC Monitoring Notes (Form M-6C-UF) | 18 | 0.2 | 12.00 | 43.20
ICF Monitoring Notes (Form M-6E-UF) | 18 | 0.7 | 12.00 | 151.20
Unlicensed Facility Site Visit Guide (Form M-7A-UF) | 18 | 12.0 | 29.00 | 6,264.00
ICF Monitoring Site Visit Guide (Form M-7G) | 18 | 0.7 | 29.00 | 365.40
Unlicensed Facility UC Case File Checklist (Form M-8A-UF) | 18 | 62.0 | 6.00 | 6,696.00
Unlicensed Facility LTFC UC Case File Checklist (Form M-8B-UF) | 18 | 1.0 | 6.00 | 108.00
Unlicensed Facility Staff Secure Addendum to Case File Checklist (Form M-8D-UF) | 18 | 2.0 | 6.00 | 216.00
Unlicensed Facility On-Site Monitoring Checklist (Form M-9A-UF) | 18 | 12.0 | 4.00 | 864.00
Unlicensed Facility Foster Home Onsite Monitoring Checklist (Form M-9B-UF) | 18 | 0.4 | 4.00 | 28.80
Unlicensed Facility Personnel File Checklist (Form M-10A-UF) | 18 | 50.0 | 1.00 | 900.00
ICF Personnel File Checklist (Form M-10E) | 18 | 3 | 1.00 | 54.00
Unlicensed Facility Program Staff Questionnaires (Forms M-11A-UF to M-11K-UF) | 18 | 100.0 | 1.00 | 1,800.00
Unlicensed Facility Interpreter Questionnaire (Form M-11P-UF) | 18 | 12.0 | 0.50 | 108.00
Unlicensed Facility UC Questionnaires (Forms M-12A-UF to M-12B-UF & M-12E-UF) | 18 | 62.0 | 0.50 | 558.00
Unlicensed Facility Legal Service Provider Questionnaire (Form M-13C-UF) | 18 | 12.0 | 0.75 | 162.00
Unlicensed Facility Case Coordinator Questionnaire (Form M-13E-UF) | 18 | 12.0 | 1.00 | 216.00
Estimated Annual Burden Hours Total |  |  |  | 21,126.60

Estimated Burden Hours for Contractor Monitors—Previously Approved for Licensed Facilities
Information collection title | Annual number of respondents | Annual number of responses per respondent | Average burden hours per response | Annual total burden hours
Corrective Action Report (Form M-1) | 4 | 25.0 | 22.00 | 2,200.00
Site Visit Guide (Forms M-7A) | 4 | 7.0 | 29.00 | 812.00
LTFC Site Guide (Forms M-7C) | 4 | 1.0 | 21.00 | 84.00
Home Study and Post-Release Services Site Visit Guide (Form M-7E) | 4 | 2.0 | 21.00 | 168.00
Personnel File Checklist (Form M-10A) | 4 | 31.0 | 1.00 | 124.00
Supplement to Personnel File Checklist (Form M-10B) | 4 | 54.0 | 1.00 | 216.00
Home Study and Post-Release Services Personnel File Checklist (Form M-10C) | 4 | 6.0 | 1.00 | 24.00
Long Term Foster Care Foster Parent Checklist (Form M-10D) | 4 | 2.0 | 0.50 | 4.00
Program Staff Questionnaires (Forms M-11A to M-11K) | 4 | 54.0 | 1.00 | 216.00
Secure Detention Officer Questionnaire (Form M-11L) | 4 | 0.1 | 1.00 | 0.40
Long Term Foster Care Home Finder Questionnaire (Form M-11M) | 4 | 1.0 | 1.00 | 4.00
Long Term Foster Care Independent Living Life Skills Staff Questionnaire (Form M-11N) | 4 | 1.0 | 1.00 | 4.00
Long Term Foster Care Foster Parent Questionnaire (Form M-11O) | 4 | 2.0 | 0.75 | 6.00
UC Questionnaires (Forms M-12A to M-12B & M-12E) | 4 | 33.0 | 0.50 | 66.00
Long Term Foster Care Client Questionnaire (Form M-12C) | 4 | 5.0 | 0.50 | 10.00
Secure Client Questionnaire (Form M-12D) | 4 | 0.4 | 0.50 | 0.80
Home Study and Post-Release Services Director Questionnaire (Form M-13A) | 4 | 2.0 | 0.50 | 4.00
Home Study and Post-Release Services Caseworker Questionnaire (Form M-13B) | 4 | 6.0 | 1.00 | 24.00
Legal Service Provider Questionnaire (Form M-13C) | 4 | 7.0 | 1.00 | 28.00
Long Term Foster Care Legal Service Provider Questionnaire (Form M-13D) | 4 | 1.0 | 0.75 | 3.00
Case Coordinator Questionnaire (Form M-13E) | 4 | 8.0 | 1.00 | 32.00
Monitoring Visit (Form M-14) | 4 | 8.0 | 0.50 | 16.00
Monitoring Schedule (Form M-15) | 4 | 0.3 | 0.30 | 0.36
Estimated Annual Burden Hours Total |  |  |  | 4,046.56

Authority: 6 U.S.C. 279; 8 U.S.C. 1232; Flores v. Reno Settlement Agreement, No. CV85-4544-RJK (C.D. Cal. 1996); 45 CFR part 411.

Mary B. Jones,
ACF/OPRE Certifying Officer.

[FR Doc. 2023-11487 Filed 5-30-23; 8:45 am]

BILLING CODE 4184-45-P